DEPARTMENT OF THE INTERIOR

Bureau of Land Management

[NV-910-06-1220-PA]

Notice of Availability of the Sheep Complex, Big Springs and Owyhee Grazing Allotments Sensitive Bird Species Draft Environmental Impact Statement, Elko County, NV

AGENCY: Bureau of Land Management, Interior.

ACTION: Notice of availability of the Sheep Complex, Big Springs and Owyhee Grazing Allotments Sensitive Bird Species Draft Environmental Impact Statement (EIS).

SUMMARY: In accordance with section 102(2)(c) of the National Environmental Policy Act of 1969 and regulations at 40 CFR Parts 1500-1508, the Bureau of Land Management, Elko Field Office, has prepared a Draft EIS on the effects of three multiple use decisions on sensitive avian species in Elko County, Nevada.

DATES: This notice initiates the public review period. Written comments on the Draft EIS will be accepted for 45 days following the date this Notice of Availability is published in the Federal Register. An Open-House Public Meeting will be held at the Bureau of Land Management Elko Field Office at 3900 E. Idaho Street, Elko, Nevada. The date and time of this public meeting will be announced through public notices, media news releases and/or mailing. This meeting will be scheduled no sooner than 15 days following the publication of this notice.

ADDRESSES: You may submit comments by any of the following methods:

—E-mail: lwest@nv.blm.gov

—Fax: (775) 753-0255

—Mail: Send to the attention of the Sensitive Species EIS Project Manager, BLM Elko Field Office, 3900 East Idaho Street, Elko, NV 89801. For those desiring a copy of the draft, a limited number of copies can be obtained from this address.

FOR FURTHER INFORMATION CONTACT: Lorrie West, EIS Team Co-Lead, at the Elko Field Office, 3900 E. Idaho Street, Elko, NV 89801. Telephone: (775) 753-0200. E-mail: lwest@nv.blm.gov.

SUPPLEMENTARY INFORMATION: The BLM is preparing this EIS to comply with a minute order issued by the Honorable Howard D. McKibben, U.S. District Judge, District of Nevada, on August 18, 2004 (CV-N-03-197-HDM(VPC)). The order followed a hearing on a complaint against three final multiple use decisions (Western Watersheds Project and Committee for the High Desert vs. Clinton R. Oke, Assistant Field Manager, Elko Field Office, et al.). The final decisions, which were left intact by the judge, are for the Sheep Complex Allotment, Big Springs Allotment and Owyhee Allotment. The Sheep Complex Allotment and Big Springs grazing allotments are located in the southeastern portion of Elko County, NV, and the Owyhee Allotment is in the northwest portion of Elko County.

The order was to prepare the EIS with respect to burrowing owls, raptors and sage grouse on the Sheep Complex and the Owyhee Allotment, and sage grouse on the Big Springs Allotment. The issues analyzed included the impacts of livestock grazing proposed by the multiple use decisions and alternatives to the extent applicable to these sensitive bird species and considering springs, seeps, riparian areas and upland habitat.

A range of alternatives (including the no-action alternative) was developed to address the issues.

Comments received on the Draft EIS, including names and street addresses of respondents, will be available for public review at the Elko Field Office during regular business hours, 7:30 a.m. to 4:30 p.m. Monday through Friday except holidays, and will be published as part of the Final EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Dated: November 3, 2005.
Helen Hankins,
Field Office Manager.

[FR Doc. E5-7578 Filed 12-20-05; 8:45 am]

BILLING CODE 4310-HC-P